DEPARTMENT OF COMMERCE

International Trade Administration

[A-122-823, A-428-814, C-428-817, A-580-815, C-580-818, A-421-804, C-401-401]

Revocation of Antidumping and Countervailing Duty Orders on Certain Carbon Steel Products From Canada, Germany, Korea, the Netherlands, and Sweden

AGENCY: Import Administration, International Trade Administration, Department of Commerce.

ACTION: Notice of Revocation of Antidumping and Countervailing Duty Orders on Certain Carbon Steel Products from Canada, Germany, Korea, the Netherlands, and Sweden.

SUMMARY: Pursuant to section 751(c) of the Tariff Act of 1930, as amended (“the Act”), the United States International Trade Commission (“the Commission”) determined that revocation of the following antidumping and countervailing duty orders on certain carbon steel products from Canada (A-122-823), Germany (A-428-814, C-428-817), Korea (A-580-815, C-580-818), the Netherlands (A-421-804), and Sweden (C-401-401), is not likely to lead to continuation or recurrence of material injury to an industry in the United States within a reasonably foreseeable time. See 65 FR 75301 (December 1, 2000). Therefore, pursuant to section 751(d)(2) of the Act and 19 CFR 351.222(i)(1), the Department of Commerce (“the Department”) is revoking the following antidumping and countervailing duty orders:

Product | Country | ITA Case No.
Cut-to-Length | Canada | A-122-823
Cold-Rolled | Germany | C-428-817
Cold-Rolled | Germany | A-428-814
Cold-Rolled | South Korea | A-580-815
Cold-Rolled | South Korea | C-580-818
Cold-Rolled | Netherlands | A-421-804
Cold-Rolled | Sweden | C-401-401

Pursuant to section 751(c)(6)(A)(iv) of the Act and 19 CFR 351.222(i)(2), the effective date of revocation is January 1, 2000.

EFFECTIVE DATE: January 1, 2000.

FOR FURTHER INFORMATION CONTACT: Martha V. Douthit or James P. Maeder, Office of Policy for International Trade Administration, US Department of Commerce, 14th Street and Constitution Ave., NW, Washington, DC 20230; telephone: (202) 482-5050 or (202) 482-3330, respectively.

SUPPLEMENTARY INFORMATION:

Background

On September 1, 1999, the Department initiated (64 FR 47767), and the Commission instituted, (64 FR 47862) sunset reviews of the antidumping and countervailing duty orders on certain carbon steel products from Australia, Belgium, Brazil, Canada, Finland, France, Germany, Japan, Korea, Mexico, Netherlands, Poland, Romania, Spain, Sweden, Taiwan, and the United Kingdom, pursuant to section 751(c) of the Act. As a result of its reviews, the Department found that revocation of the following antidumping and countervailing duty orders on certain carbon steel products would likely lead to continuation or recurrence of dumping and/or subsidization, and notified the Commission of the magnitude of the margins likely to prevail were the orders revoked:

Product | Country | ITA Case No. | Federal Register citation | Date
Corrosion-Resistant | Australia | A-602-803 | 65 FR 18049 | 04/06/00
Cut-to-Length | Belgium | A-423-805 | 65 FR 18292 | 04/07/00
Cut-to-Length | Belgium | C-423-806 | 65 FR 18066 | 04/06/00
Cut-to-Length | Brazil | A-351-817 | 65 FR 18052 | 04/06/00
Cut-to-Length | Brazil | C-351-818 | 65 FR 18065 | 04/06/00
Corrosion-Resistant | Canada | A-122-822 | 65 FR 47379 | 04/02/00
Cut-to-Length | Canada | A-122-823 | 65 FR 47383 | 08/02/00
Cut-to-Length | Finland | A-405-802 | 65 FR 18054 | 04/06/00
Corrosion-Resistant | France | A-427-808 | 65 FR 18050 | 04/06/00
Corrosion-Resistant | France | C-427-810 | 65 FR 18063 | 04/06/00
Cold-Rolled | Germany | A-428-814 | 65 FR 18046 | 04/06/00
Cold-Rolled | Germany | C-428-817 | 65 FR 47407 | 08/02/00
Corrosion-Resistant | Germany | C-428-817 | 65 FR 47407 | 08/02/00
Corrosion-Resistant | Germany | A-428-815 | 65 FR 18051 | 04/06/00
Cut-to-Length | Germany | C-428-817 | 65 FR 47407 | 08/02/00
Cut-to-Length | Germany | A-428-816 | 65 FR 18055 | 04/06/00
Corrosion-Resistant | Japan | A-588-826 | 65 FR 47380 | 08/02/00
Cold-Rolled | Korea | A-580-815 | 65 FR 18044 | 04/06/00
Cold-Rolled | Korea | C-580-818 | 65 FR 18973 | 04/10/00
Corrosion-Resistant | Korea | A-580-816 | 65 FR 18044 | 04/06/00
Corrosion-Resistant | Korea | C-580-818 | 65 FR 18973 | 04/10/00
Cut-to-Length | Mexico | A-201-809 | 65 FR 18052 | 04/06/00
Cut-to-Length | Mexico | C-201-810 | 65 FR 18067 | 04/06/00
Cold-Rolled | Netherlands | A-421-804 | 65 FR 47377 | 08/02/00
Cut-to-Length | Poland | A-455-802 | 65 FR 18054 | 04/06/00
Cut-to-Length | Romania | A-485-803 | 65 FR 47382 | 08/02/00
Cut-to-Length | Spain | A-469-803 | 65 FR 18056 | 04/06/00
Cut-to-Length | Spain | C-469-804 | 65 FR 18307 | 04/07/00
Cut-to-Length | Sweden | A-401-805 | 65 FR 18054 | 04/06/00
Cut-to-Length | Sweden | C-401-804 | 65 FR 18305 | 04/07/00
Cold-Rolled | Sweden | C-401-401 | 65 FR 18290 | 04/07/00
Carbon Steel Plate | Taiwan | A-583-080 | 65 FR 18043 | 04/06/00
Cut-to-Length | UK | C-412-815 | 65 FR 18309 | 04/07/00
Cut-to-Length | UK | A-412-814 | 65 FR 18056 | 04/06/00

On December 1, 2000, the Commission determined, pursuant to section 751(c) of the Act, that revocation of the antidumping and countervailing duty orders on certain carbon steel products from Canada (A-122-823), Germany (C-428-817; A-428-814), Korea (C-580-818; A-580-815), the Netherlands (A-421-804), and Sweden (C-401-401) would not be likely to lead to continuation or recurrence of material injury to an industry in the United States within a reasonably foreseeable time. See Certain Carbon Steel Products from Australia, Belgium, Brazil, Canada, Finland, France, Germany, Japan, Korea, Mexico, Netherlands, Poland, Romania, Spain, Sweden, Taiwan, and the United Kingdom, 65 FR 75301 (December 1, 2000), as amended 65 FR 77074 (December 8, 2000), and USITC Publication 3364, Investigation Nos. AA1921-197 (Review), 701-TA-231, 319-320, 322, 325-328, 340, 342, and 348-350 (Review), and 731-TA-573-576, 578, 582-587, 604, 607-608, 612, and 614-618 (Review) (November 2000).

Scope of the Orders: See Appendix.

Determination

As a result of the determination by the Commission that revocation of the antidumping and countervailing duty orders on cut-to-length steel products from Canada (A-122-823), cold-rolled steel products from Germany (A-428-814, C-428-817), cold-rolled steel products from Korea (A-580-815, C-580-818), cold-rolled steel products from the Netherlands (A-421-804), and cold-rolled steel products from Sweden (C-401-401), is not likely to lead to continuation or recurrence of material injury to an industry in the United States, pursuant to section 751(d)(2) of the Act, and 19 CFR 351.222(i)(1), the Department hereby revokes the antidumping and countervailing duty orders on cut-to length steel plate from Canada (A-122-823), cold-rolled steel products from Germany (C-428-817, A-428-814), cold-rolled steel products from Korea (A-580-815, C-580-818), cold-rolled steel products from the Netherlands (A-421-804), and cold-rolled steel products from Sweden (C-401-401).

The Department will instruct the Customs Service to discontinue the suspension of liquidation and collection of cash deposit rates on entries of the subject merchandise entered or withdrawn from warehouse on or after January 1, 2000. The effective date of revocation of these antidumping and countervailing duty orders is January 1, 2000.

Dated: December 8, 2000.
Joseph A. Spetrini,
Acting Assistant Secretary for Import Administration.

Appendix—Scope of Antidumping and Countervailing Duty Orders; Cold-Rolled Carbon Steel Products

The product covered by these antidumping and countervailing duty orders is certain cold-rolled carbon steel flat products from Germany (C-428-817; A-428-814), Korea (C-580-818; A-580-815), the Netherlands (A-421-804) and Sweden (C-401-401). The product includes cold-rolled (cold-reduced) carbon steel flat-rolled products, of rectangular shape, neither clad, plated nor coated with metal, whether or not painted, varnished or coated with plastics or other nonmetallic substances, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule (“HTS”) under item numbers: 7209.11.0000, 7209.12.0000, 7209.12.0030, 7209.12.0090, 7209.13.0000, 7209.13.0030, 7209.13.0090, 7209.14.0030, 7209.14.0090, 7209.15.0000, 7209.16.0030, 7209.16.0060, 7209.16.0090, 7209.17.0030, 7209.17.0060, 7209.17.0090, 7209.18.1530, 7209.18.1560, 7209.18.2550, 7209.18.6000, 7209.21.0000, 7209.22.0000, 7209.23.0000, 7209.24.1000, 7209.24.5000, 7209.25.0000, 7209.26.0000, 7209.27.0000, 7209.28.0000, 7209.31.0000, 7209.32.0000, 7209.33.0000, 7209.34.0000, 7209.41.0000, 7209.42.0000, 7209.43.0000, 7209.44.0000, 7209.90.0000, 7210.70.3000, 7210.90.9000, 7211.23.1500, 7211.23.2000, 7211.23.3000, 7211.23.4500, 7211.23.6030, 7211.23.6060, 7211.23.6085, 7211.29.2030, 7211.29.2090, 7211.29.4500, 7211.29.6030, 7211.29.6080, 7211.30.1030, 7211.30.1090, 7211.30.3000, 7211.30.5000, 7211.41.1000, 7211.41.3030, 7211.41.3090, 7211.41.5000, 7211.41.7000, 7211.41.7030, 7211.41.7060, 7211.41.7090, 7211.49.1030, 7211.49.1090, 7211.49.3000, 7211.49.5000, 7211.49.5030, 7211.49.5060, 7211.49.5090, 7211.90.0000, 7212.40.1000, 7212.40.5000, 7212.50.0000, 7215.50.0015, 7215.50.0060, 7215.50.0090, 7215.90.5000, 7217.10.1000, 7217.10.2000, 7217.10.3000, 7217.10.7000, 7217.11.1000, 7217.11.2000, 7217.11.3000, 7217.19.1000, 7217.19.5000, 7217.21.1000, 7217.29.1000, 7217.29.5000, 7217.31.1000, 7217.39.1000, 7217.39.5000, 7217.90.1000, 7217.90.5030, 7217.90.5060, 7217.90.5090.

Included in the scope of the antidumping and countervailing duty orders on cold-rolled steel products from Germany (C-428-817; A-428-814), Sweden (C-401-401), Korea (C-580-818; A-580-815), and the Netherlands (A-421-804), are flat-rolled products of non-rectangular cross-section where such cross-section is achieved subsequent to the rolling process (i.e., products which have been worked after rolling)—for example, products which have been bevelled or rounded at the edges. Excluded are certain shadow mask steel; i.e., aluminum-killed, cold-rolled steel coil that is open-coil annealed, has a carbon content of less than 0.002 percent, is of 0.003 to 0.012 inch in thickness, 15 to 30 inches in width, and has an ultra flat, isotropic surface. The HTS item numbers in the scope of cold-rolled carbon steel products from Germany Korea, the Netherlands, and Sweden, are provided for convenience and custom purposes. The written description remains dispositive.

Cut-to-Length Steel Plate From Canada (A-122-823)

The scope of the antidumping duty order on cut-to-length steel plate from Canada includes hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated, nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the Harmonized Tariff Schedule (“HTS”) under item numbers: 7208.40.3030, 7208.40.3060, 7208.51.5030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Included in this order are flat-rolled products of non-rectangular cross-section where such cross-section is achieved subsequent to the rolling process (i.e., products which have been “worked after rolling”)—for example, products which have been beveled or rounded at the edges. Excluded from the antidumping duty order on cut-to-length from Canada is grade X-70 plate. Also excluded is cut-to-length carbon steel plate, meeting the following criteria: (1) 100 percent dry steel plates, virgin steel, no scrap content (free of Cobalt-60 and other radioactive nuclides); (2) 0.290 inches maximum thickness, plus 0.0, minus 0.030 inches; (3) 48.00 inch wide, plus 0.05, minus 0.0 inches; (4) 10 foot lengths, plus 0.5, minus 0.0 inches; (5) flatness, plus/minus 0.5 inch over 10 feet; (6) AISI 1006; (7) tension leveled; (8) pickled and oiled; and (9) carbon content, 0.3 to 0.8 (maximum).

On February 12, 1999, the Department revoked the order with respect to cut-to-length carbon steel plate from Canada, free of cobalt-60 and other radioactive nuclides; and with certain dimensions and other characteristics. See 64 FR 7167 (February 12, 1999). The HTS item numbers are provided for convenience and customs purposes. The written description remains dispositive.

[FR Doc. 00-31943 Filed 12-14-00; 8:45 am]

BILLING CODE 3510-DS-P